AGENCY FOR INTERNATIONAL DEVELOPMENT

Advisory Committee on Voluntary Foregin Aid; Notice of Meeting

Pursuant to the Federal Advisory Committee Act, notice is hereby given of a meeting of the Advisory Committee on Voluntary Foreign Aid (ACVFA).

Date: Wednesday, February 16, 2005 (8:45 a.m. to 3:30 p.m.).

Location: J.W. Marriott Hotel, 1331 Pennsylvania Avenue, NW., Washington, DC 20004.

The meeting's keynote address will outline some of the Administrator's major priorities, including the new fragile states policy and anticorruption strategy.

Following a presentation on USAID's new anticorruption strategy by Barbara Turner, Deputy Assistant Administrator in the Bureau for Policy and Program Coordination, John Sullivan from the Center for International Private Enterprise (ACVFA member) will moderate a panel. Participants will include Nancy Boswell from Transparency International, Daniel Kaufman from the World Bank Institute, and Neil Levine from USAID's Office of Democracy and Governance. Key mandates of the new strategy include broader efforts to tackle the economic and political conditions that facilitate grand corruption and integrating anticorruption objectives and activities more carefully into all of the Agency's development work.

After lunch, Joanne Giordano, Senior Advisor to the Administrator, John Gardner, General Counsel, USAID, and John Niemeyer, Attorney Advisor, Office of the General Counsel, will provide an overview of the proposed marking policy and graphic standards followed by an opportunity for questions and comments.

Participants will have an opportunity to ask questions of the speakers and participate in the discussion.

The meeting is free and open to the public. Persons wishing to attend the meeting can register online at http://www.usaid.gov/about_usaid/acvfa or e-mail their name to barbara@websterconsulting.com.

Dated: January 21, 2005.
Jocelyn M. Rowe,
Executive Director, Advisory Committee on Voluntary Foreign Aid (ACVFA), U.S. Agency for International Development.

[FR Doc. 05-1450 Filed 1-25-05; 8:45 am]

BILLING CODE 6116-01-P